DEPARTMENT OF THE INTERIOR

Fish and Wildlife Service

[FWS-R3-FHC-2016-N108; FXFR13340300000-145-FF03F00000]

Fisheries and Habitat Conservation; Final Supplemental Environmental Impact Statement for the Ballville Dam Project on the Sandusky River, Sandusky County, Ohio

AGENCY: Fish and Wildlife Service, Interior.

ACTION: Notice of availability; request for comments.

SUMMARY: We, the U.S. Fish and Wildlife Service (Service), announce the availability of a final supplemental environmental impact statement (SEIS) that has been prepared to evaluate the Ballville Dam Project, in Sandusky County, Ohio, in accordance with the requirements of the National Environmental Policy Act (NEPA). We are also requesting public comments.

DATES: Submitting Comments: We will consider all comments regarding the final SEIS received or postmarked by November 28, 2016 and respond to them as appropriate.

ADDRESSES: Submitting Comments: A hard copy of the draft SEIS and associated documents will be available for review at the Birchard Public Library, 423 Croghan Street, Fremont, Ohio 43420, as well as online at http://www.fws.gov/midwest/fisheries/ballville-dam.html.

You may submit comments on the final SEIS by any one of the following methods:

• U.S. mail or hand-delivery: Jessica Hogrefe, U.S. Fish and Wildlife Service, Fisheries, 5600 American Boulevard West, Suite 990, Bloomington, MN 55437-1458.

• Email: Ballvilledam@fws.gov.

• Fax: (612) 713-5289 (Attention: Jessica Hogrefe).

FOR FURTHER INFORMATION CONTACT: Jessica Hogrefe, (612) 713-5102. Individuals who are hearing impaired or speech impaired may call the Federal Relay Service at (800) 877-8337 for TTY assistance.

SUPPLEMENTARY INFORMATION: We announce the availability of a final supplemental environmental impact statement (SEIS) that has been prepared to evaluate the Ballville Dam Project, in Sandusky County, Ohio, in accordance with the requirements of the National Environmental Policy Act (NEPA). We are also requesting public comments.

Background

Ballville Dam was built in 1913 for hydroelectric power generation. The City of Fremont purchased the dam in 1959 from the Ohio Power Company for the purpose of supplying water to the city. With the construction of a raw water reservoir, the dam is no longer required for this purpose. Moreover, in 2007, the Ohio Department of Natural Resources issued a Notice of Violation to the City, stating that the dam was being operated in violation of the law as a result of its deteriorated condition.

Ballville Dam is currently a complete barrier to upstream fish passage and impedes hydrologic processes. The purpose for the issuance of Federal funds and preparation of this final SEIS is to remove Ballville Dam and restore natural hydrological processes over a 40-mile stretch of the Sandusky River, reopen fish passage to 22 miles of additional habitat, restore flow conditions for fish access to habitat above the impoundment, and improve overall conditions for native fish communities in the Sandusky River system, restoring self-sustaining fish resources.

We published a final EIS in the Federal Register on August 1, 2014 (79 FR 44856), for the Ballville Dam Project that addressed the environmental, economic, cultural and historical, and safety issues associated with the proposed removal of the dam and a suite of alternatives. The final EIS analyzed four alternatives for the removal: (1) Proposed Action—Incremental Dam Removal with Ice Control Structure; (2) No Federal Action; (3) Fish Elevator Structure; and (4) Dam Removal with Ice Control Structure. The final EIS considered the direct, indirect, and cumulative effects of the alternatives, including any measures under the Proposed Action alternative intended to minimize and mitigate such impacts. The final EIS also identified additional alternatives that were considered, but were eliminated from consideration as detailed in Section 2.3 of the final EIS.

We further published a draft SEIS in the Federal Register on February 26, 2016 (81 FR 9877), that provided further discussion of the potential significant impacts of the proposed action and an analysis of reasonable alternatives to the proposed action, specifically within the context of additional information made available since completion of final EIS for this project. This additional information addressed estimates of total quantity of sediment impounded by Ballville Dam, the potential impacts of the proposed alternative on harmful algal blooms (HABs) in the Sandusky River and Lake Erie due to the proposed sediment release, the potential impacts of the proposed alternative on downstream habitats due to sediment release, the accuracy of cost estimates of sediment removal within the EIS, and evaluation of a bypass and excavation alternative provided in comments on the final EIS. Although we concluded that these topics were sufficiently addressed in the final EIS, we provided additional review and assessment in the draft SEIS to help further clarify the issues. To complete this aspect of the draft SEIS, we consulted subject matter experts to help review final EIS materials and clearly articulate our understanding of them. The resulting additional information and explanation was incorporated within the draft SEIS.

This final SEIS further incorporates information received during the public comment period for the draft SEIS, and finalizes the analyses and conclusions in the document.

Public Comments

Letters describing the proposed action and soliciting comments will be sent to appropriate Federal, State, and local agencies, and to private organizations and citizens who have previously expressed or are known to have interest in this proposal. To ensure that the full range of issues related to this proposed action are addressed and all significant issues identified, comments and suggestions are invited from all interested parties.

We request data, comments, new information, or suggestions from the public, concerned governmental agencies, the scientific community, tribes, industry, or any other interested party on this notice. We specifically request comments regarding the additional information and analyses presented in the final SEIS.

You may submit your comments and materials considering this notice by one of the methods listed in the ADDRESSES section.

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

This notice is being furnished as provided for by NEPA and its implementing Regulations (40 CFR 1501.7 and 1508.22). The intent of the notice is to obtain suggestions and additional information from other agencies and the public on the final SEIS. Comments and participation in this process are solicited.

Todd Turner,
Assistant Regional Director, Fisheries, Midwest Region.

[FR Doc. 2016-26101 Filed 10-27-16; 8:45 am]

BILLING CODE P